DEPARTMENT OF EDUCATION

Notice Reopening the Deadline Date for the New Fiscal Year (FY) 2008 Awards; Personnel Development To Improve Services and Results for Children with Disabilities Program (CFDA No. 84.325T)

Correction

In notice document E8-3520 beginning on page 10008, in the issue of Monday, February 25, 2008, make the following correction:

On page 10008 in the third column, the subject line should read as set forth above.

[FR Doc. Z8-3520 Filed 2-28-08; 8:45 am]

BILLING CODE 1505-01-D

ENVIRONMENTAL PROTECTION AGENCY

40 CFR Part 52

[EPA-R05-OAR-2006-0976; FRL-8526-8]

Approval and Promulgation of Air Quality Implementation Plans; Ohio; Oxides of Nitrogen Budget Trading Program

Correction

In rule document E8-2506 beginning on page 8197 in the issue of Wednesday, February 13, 2008, make the following correction:

On page 8200, in the third column, under heading Subpart KK—Ohio, in amendatory instruction 2., in the second line, “(c)(141)” should read “(c)(142)”.

[FR Doc. Z8-2506 Filed 2-28-08; 8:45 am]

BILLING CODE 1505-01-D

SECURITIES AND EXCHANGE COMMISSION

[Release No. 34-57317; File No. SR-CBOE-2007-151]

Self-Regulatory Organizations; Chicago Board Options Exchange, Incorporated; Order Approving Proposed Rule Change Relating to Linkage Fees

Correction

In notice document E8-3059 beginning on page 9377 in the issue of Wednesday, February 20, 2008, make the following correction:

On page 9377, in the third column, in the document headings, after the subject, should read “February 12, 2008”.

[FR Doc. Z8-3059 Filed 2-28-08; 8:45 am]

BILLING CODE 1505-01-D

DEPARTMENT OF TRANSPORTATION

Federal Aviation Administration

14 CFR Part 71

[Docket No. FAA-2007-0205; Airspace Docket No. 07-ANM-17]

Proposed Establishment of Class E Airspace; Walden CO

Correction

In proposed rule document E8-844, beginning on page 3431 in the issue of Friday, January 18, 2008, make the following correction:

§ 71.1 [Corrected]

On page 3432, in § 71.1, in the second column, in the eighth line, “(Lat. 40°45′0″ N., long. 106°16′17″ W.)” should read“(Lat.40°45′01″ N., long. 106°16′17″ W.)”.

[FR Doc. Z8-844 Filed 2-28-08; 8:45 am]

BILLING CODE 1505-01-D

DEPARTMENT OF TRANSPORTATION

Pipeline and Hazardous Materials Safety Administration

[Docket No. PHMSA-2004-19856]

Pipeline Safety: Updated Notification of the Susceptibility to Premature Brittle-Like Cracking of Older Plastic Pipe

Correction

In notice document 07-4309 beginning on page 51301 in the issue of Thursday, September 6, 2007 make the following corrections:

1. On page 51302, in the second column, in the first paragraph, in the fourth line, “county's” should read “country's”.

2. On the same page, in the second column, in the last paragraph, in the second line, “future” should read “further”.

3. On the same page, in the third column, in the second full paragraph, in the 18th line, the phrase “is used which” should only appear once.

[FR Doc. C7-4309 Filed 2-28-08; 8:45 am]

BILLING CODE 1505-01-D

DEPARTMENT OF THE TREASURY

Internal Revenue Service

26 CFR Part 301

[TD 9378]

RIN 1545-BE35

Release of Lien or Discharge of Property

Correction

In rule document E8-1569 beginning on page 5741 in the issue of Thursday, January 31, 2008, make the following correction:

§301.6325-1 [Corrected]

On page 5742, in §301.6325-1, in the third column, in paragraph (5), in the third line, “proof of full payment” should read “proof of full payment”.

[FR Doc. Z8-1569 Filed 2-28-08; 8:45 am]

BILLING CODE 1505-01-D